DEPARTMENT OF THE INTERIOR

National Park Service

[NPS-WASO-NAGPRA-NPS0032431; PPWOCRADN0-PCU00RP14.R50000]

Notice of Inventory Completion: Logan Museum of Anthropology, Beloit College, Beloit, WI

AGENCY: National Park Service, Interior.

ACTION: Notice.

SUMMARY: The Logan Museum of Anthropology, Beloit College has completed an inventory of human remains, in consultation with the appropriate Indian Tribes or Native Hawaiian organizations and has determined that there is a cultural affiliation between the human remains and present-day Indian Tribes or Native Hawaiian organizations. Lineal descendants or representatives of any Indian Tribe or Native Hawaiian organization not identified in this notice that wish to request transfer of control of these human remains should submit a written request to the Logan Museum of Anthropology, Beloit College. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the Logan Museum of Anthropology, Beloit College, at the address in this notice by September 16, 2021.

FOR FURTHER INFORMATION CONTACT: Nicolette B. Meister, Director, Logan Museum of Anthropology, Beloit College, Beloit, WI 53511, telephone (608) 363-2305, email meistern@beloit.edu.

SUPPLEMENTARY INFORMATION: Notice is here given in accordance with the Native American Graves Protection and Repatriation Act (NAGPRA), 25 U.S.C. 3003, of the completion of an inventory of human remains under the control of the Logan Museum of Anthropology, Beloit College, Beloit, WI. The human remains were removed from San Nicolas Island, Ventura County, CA.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Logan Museum of Anthropology, Beloit College professional staff in consultation with representatives of the Pala Band of Mission Indians [previously listed as Pala Band of Luiseno Mission Indians of the Pala Reservation, California]; Pauma Band of Luiseno Mission Indians of the Pauma & Yuima Reservation, California; Pechanga Band of Luiseno Mission Indians of the Pechanga Reservation, California; Rincon Band of Luiseno Mission Indians of Rincon Reservation, California; Santa Ynez Band of Chumash Mission Indians of the Santa Ynez Reservation, California; Soboba Band of Luiseno Indians, California; and the following non-federally recognized Indian groups the Gabrielino/Tongva Nation; Gabrieleno/Tongva San Gabriel Band of Mission Indians; and the Traditional Council of Pimu/Ti′at Society. The La Jolla Band of Luiseno Indians, California [previously listed as La Jolla Band of Luiseno Mission Indians of the La Jolla Reservation] was invited but did not participate. Hereafter, all the Indian Tribes and groups listed in this section are referred to as “The Consulted and Invited Tribes and Groups.”

History and Description of the Remains

Sometime between 1875 and 1889, human remains representing, at minimum, five individuals were removed from San Nicolas Island, Ventura County, CA. The human remains were removed by amateur archeologist Reverend Stephen Bowers, who sold them to the Logan Museum on an unknown date. Reverend Bowers made multiple collecting trips to San Nicolas between 1875 and 1889. He removed thousands of cultural items, which were later sold to museums and collectors. Between 1880 and 1881, Reverend Bowers owned two newspapers in Wisconsin, one in Clinton and the other in Beloit. These newspapers provide the context for his sale of cultural items to the Logan Museum. The human remains belong to two adults of unknown sex, one adult male, one child six years old, and one individual of unknown age and sex. No known individuals were identified. No associated funerary objects are present.

The human remains are Native American based on archeological, biological, and geographical evidence. Archeological evidence suggests that before their removal in the early 19th century by the padres of the California mission system, people had occupied San Nicolas Island for a least 10,000 years.

Determinations Made by the Beloit College, Logan Museum of Anthropology

Officials of the Logan Museum of Anthropology, Beloit College have determined that:

• Pursuant to 25 U.S.C. 3001(9), the human remains described in this notice represent the physical remains of five individuals of Native American ancestry.

• Pursuant to 25 U.S.C. 3001(2), there is a relationship of shared group identity that can be reasonably traced between the Native American human remains and the La Jolla Band of Luiseno Indians, California [previously listed as La Jolla Band of Luiseno Mission Indians of the La Jolla Reservation]; Pala Band of Mission Indians [previously listed as Pala Band of Luiseno Mission Indians of the Pala Reservation, California]; Pauma Band of Luiseno Mission Indians of the Pauma & Yuima Reservation, California; Pechanga Band of Luiseno Mission Indians of the Pechanga Reservation, California; Rincon Band of Luiseno Mission Indians of Rincon Reservation, California; Santa Ynez Band of Chumash Mission Indians of the Santa Ynez Reservation, California; and the Soboba Band of Luiseno Indians, California (hereafter referred to as “The Tribes”).

Additional Requestors and Disposition

Lineal descendants or representatives of any Indian Tribe or Native Hawaiian organization not identified in this notice that wish to request transfer of control of these human remains should submit a written request with information in support of the request to Nicolette B. Meister, Logan Museum of Anthropology, Beloit College, 700 College Street, Beloit, WI 53511, telephone (608) 363-2305, email meistern@beloit.edu, by September 16, 2021. After that date, if no additional requestors have come forward, transfer of control of the human remains to The Tribes may proceed.

The Logan Museum of Anthropology, Beloit College is responsible for notifying The Consulted and Invited Tribes and Groups that this notice has been published.

Dated: August 4, 2021.
Melanie O'Brien,
Manager, National NAGPRA Program.

[FR Doc. 2021-17567 Filed 8-16-21; 8:45 am]

BILLING CODE 4312-52-P